DEPARTMENT OF ENERGY

Federal Energy Regulatory Commission

[Docket Nos. CP17-117-000; CP17-118-000; PF16-6-000]

Driftwood LNG LLC, Driftwood Pipeline LLC; Notice of Application

Take notice that, on March 31, 2017, Driftwood LNG, LLC (DWLNG), 1201 Louisiana Street, Suite 3100, Houston, TX 77002, filed an application seeking authorization pursuant to Section 3(a) of the Natural Gas Act (“NGA”), and Parts 153 and 380 of the regulations of the Commission for the proposed Driftwood LNG Project located in Calcasieu Parish, Louisiana. Specifically, DWLNG requests authorization to construct and operate liquefied natural gas (LNG) export facilities, including five LNG plants, three LNG storage tanks, marine facilities and associated infrastructure and support facilities (Facility). In total, the Facility will produce up to 26 million tonnes per annum (MTPA) of natural gas.

Also take notice that, on March 31, 2017, Driftwood Pipeline, LLC (DWPL), 1201 Louisiana Street, Suite 3100, Houston, TX 77002, filed an application, pursuant to Section 7(c) of the NGA and Parts 157 and 284 of the Commission's regulations, requesting that the Commission grant a certificate of public convenience and necessity, and related approvals, authorizing DWPL to construct and operate, an approximately 96-mile interstate natural gas pipeline, compression and related facilities. The pipeline will be capable of transporting up to 4 Bcf/d of natural gas to the Facility, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Patricia Outtrim, Driftwood LNG, LLC, 1201 Louisiana Street, Suite 3100, Houston, TX 77002, (832) 962-4000, pat.outtrim@driftwoodlng.com; or Lisa M. Tonery, Partner, Orrick, Herrington & Sutcliffe LLP, 51 West 52nd Street, New York, N.Y. 10019-6142, (212) 506-3710, ltonery@orrick.com.

On June 6, 2016 the Commission staff granted Driftwood's request to utilize the Pre-Filing Process and assigned Docket No. PF16-6-000 to staff activities involved in the Driftwood LNG Project. Now, as of the March 31, 2017 application, the Pre-Filing Process for this project has ended. From this time forward, this proceeding will be conducted in Docket Nos. CP17-117-000 and CP17-118-000, as noted in the caption of this Notice.

Pursuant to section 157.9 of the Commission's rules, 18 CFR 157.9, within 90 days of this Notice the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 2, 2017.

Dated: April 11, 2017.
Kimberly D. Bose,
Secretary.

[FR Doc. 2017-07695 Filed 4-14-17; 8:45 am]

BILLING CODE 6717-01-P